INTERNATIONAL BOUNDARY AND WATER COMMISSION, UNITED STATES AND MEXICO

Privacy Act of 1974; Establishment of a New System of Records

AGENCY: United States Section, International Boundary and Water Commission (USIBWC), United States and Mexico.

ACTION: Proposed establishment of a new Privacy Act system of records.

SUMMARY: In accordance with the Privacy Act of 1974 (5 U.S.C. 552a), the USIBWC is issuing public notice of its intent to modify an existing Privacy Act system of records notice, DOI-85, “Payroll, Attendance, Retirement, and Leave Records.” The revisions will update the categories of individuals covered by the system, categories of records in the system, routine uses of records maintained in the system, retrievability of records, records' safeguards, retention and disposition of records, and record source categories.

DATES: Comments must be received by January 2, 2016.

ADDRESSES: Any persons interested in commenting on these proposed amendments may do so by submitting comments in writing to the Legal Department, Senior Agency Officer for Privacy, Matthew Myers, U.S. IBWC, 4171 N. Mesa, C-100, El Paso, TX 79902, or by email to Matthew.Myers@ibwc.gov.

FOR FURTHER INFORMATION CONTACT: Z. Mora, Chief, Information Management Division, Administration Department, 4171 N. Mesa, C-100, El Paso, TX 79902 or by email at Z.Mora@ibwc.gov.

SUPPLEMENTARY INFORMATION: The Office of the Secretary of the Department of the Interior is proposing to amend the system notice for DOI-85, “Payroll, Attendance, Retirement, and Leave Records” to update the categories of individuals covered by the system, categories of records in the system, routine uses of records maintained in the system, retrievability of records, records' safeguards, retention and disposition of records, and record source categories to reflect changes that have occurred since the notice was last published. These amendments will be effective as proposed at the end of the comment period unless comments are received which would require a contrary determination. The USIBWC will publish a revised notice if changes are made based upon a review of comments received.

Dated: October 28, 2015.
Matthew Myers,
Chief Counsel/Secretary Acting Privacy Act Officer.

SYSTEM NAME:

Payroll, Attendance, Retirement, and Leave Records—Interior, DOI-85.

SYSTEM LOCATION:

(1) Personnel and Payroll Systems Division, National Business Center, U.S. Department of the Interior, 7201 West Mansfield Avenue, MS D-2400, Denver, CO 80235-2230.

(2) All Departmental offices and locations which prepare and provide input documents and information for data processing and administrative actions.

CATEGORIES OF INDIVIDUALS COVERED BY THE SYSTEM:

(1) Current and former employees of the USIBWC

(2) Current and former emergency workers (“casuals”) of the USIBWC (emergency workers).

(3) Volunteers within the USIBWC (volunteers).

(4) Contractors within the USIBWC (contractors).

CATEGORIES OF RECORDS IN THE SYSTEM:

Emergency worker name, emergency worker address, emergency worker phone numbers, emergency worker Social Security Number and organizational code; contractor name, contractor Social Security Number, contractor organization; employee name, employee address, employee phone numbers, employee emergency contact information (including name, address and phone number), employee Social Security Number and organizational code; employee common identifier (ECI), pay rate, grade, length of service, individual's pay and leave records; source documents for posting time and leave attendance; allowances, and cost distribution records; deductions for Medicare, Old Age, Survivors, and Disability Insurance (OASDI, also known as Social Security), bonds, Federal Employees Group Life Insurance (FEGLI), union dues, taxes, allotments, quarters, retirement, charities, health benefits, Flexible Spending Account, Long Term Care, Thrift Savings Fund contributions, awards, shift schedules, and pay differentials, tax lien data, commercial garnishments, child support and/or alimony wage assignments; and related payroll and personnel data. Also included is information on debts owed to the government as a result of overpayment, refunds owed, or a debt referred for collection on a transferred employee or emergency worker. The payroll, attendance, retirement, and leave records described in this notice form a part of the information contained in the Department of the Interior's integrated Federal Personnel and Payroll System (FPPS). Personnel records contained in the FPPS are covered under the government-wide system of records notice published by the Office of Personnel Management (OPM/GOVT-1) and the Department-wide system of records notice, DOI-79, “Interior Personnel Records.”

AUTHORITY FOR MAINTENANCE OF THE SYSTEM:

5 U.S.C. 5101, et seq.; 31 U.S.C. 3512.

ROUTINE USES OF RECORDS MAINTAINED IN THE SYSTEM, INCLUDING CATEGORIES OF USERS AND THE PURPOSES OF SUCH USES:

The primary uses of the records are for fiscal operations for payroll, time and attendance, leave, insurance, tax, retirement, debt, budget, and cost accounting programs; to prepare related reports to other Federal agencies including the Department of the Treasury and the Office of Personnel Management; for reporting purposes by the DOI component for which the employee works or the agency for which the DOI emergency worker works; and for human capital management purposes.

Disclosure outside the Department of the Interior may be made:

(1) To the Department of the Treasury for preparation of payroll (and other) checks and electronic funds transfers to Federal, State, and local government agencies, non-governmental organizations, and individuals.

(2) To the Internal Revenue Service and to State, local, tribal, and territorial governments for tax purposes.

(3) To the Office of Personnel Management or its contractors in connection with programs administered by that office, including, but not limited to, the Federal Long Term Care (LTC) Insurance Program, the Federal Dental and Vision Insurance Program (FEDVIP), the Flexible Spending Accounts for Federal Employees Program (FSAFEDS), and the electronic Human Resources Information Program (EHRI).

(4) To another Federal agency to which an employee or DOI emergency worker has transferred or in which a DOI volunteer transfers in a volunteer capacity.

(5) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private Representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(6) To any criminal, civil, or regulatory law enforcement authority (whether federal, state, territorial, local, tribal or foreign) when a record, either alone or in conjunction with other information, indicates a violation or potential violation of law—criminal, civil, or regulatory in nature, and the disclosure is compatible with the purpose for which the records were compiled.

(7) To a congressional office in response to a written inquiry that an individual covered by the system, or the heir of such individual if the covered individual is deceased, has made to the office.

(8) To Federal, State or local agencies where necessary to enable the employee's, DOI emergency worker's, or DOI volunteer's agency to obtain information relevant to the hiring or retention of that employee, DOI emergency worker, or DOI volunteer, or the issuance of a security clearance, contract, license, grant or other benefit.

(9) To appropriate Federal and State agencies to provide required reports including data on unemployment insurance.

(10) To the Social Security Administration to credit the employee's or emergency worker's account for OASDI and Medicare deductions.

(11) To labor unions to report union dues deductions.

(12) To employee or emergency worker associations to report dues deductions.

(13) To insurance carriers to report employee or DOI emergency worker election information and withholdings for health insurance.

(14) To charitable institutions to report contributions.

(15) To a Federal agency for the purpose of collecting a debt owed the Federal government through administrative or salary offset.

(16) To disclose debtor information to the Internal Revenue Service or to another Federal agency or its contractor solely to aggregate information for the Internal Revenue Service to collect debts owed to the Federal government through the offset of tax refunds.

(17) To any creditor Federal agency seeking assistance for the purpose of that agency implementing administrative or salary offset procedures in the collection of unpaid financial obligations owed the United States Government from an individual.

(18) To any Federal agency where the individual debtor is employed or receiving some form of remuneration for the purpose of enabling that agency to collect debts on the employee's behalf by administrative or salary offset procedures under the provisions of the Debt Collection Act of 1982.

(19) To disclose information to the Internal Revenue Service, and state and local authorities for the purposes of locating a debtor to collect a claim against the debtor.

(20) With respect to Bureau of Indian Affairs employee or DOI emergency worker records, to a Federal, State, local agency, or Indian tribal group or any establishment or individual that assumes jurisdiction, either by contract or legal transfer, of any program under the control of the Bureau of Indian Affairs.

(21) With respect to Bureau of Reclamation employee or DOI emergency worker records, to non-Federal auditors under contract with the Department of the Interior or Energy or water user and other organizations with which the Bureau of Reclamation has written agreements permitting access to financial records to perform financial audits.

(22) To the Federal Retirement Thrift Investment Board's record keeper which administers the Thrift Savings Plan to report deductions, contributions and loan payments.

(23) To disclose the names, Social Security Numbers, home addresses, dates of birth, dates of hire, quarterly earnings, employer identifying information and state of hire of employees or emergency workers to the Office of Child Support Enforcement, Administration for Children and Families, Department of Health and Human Services for the purposes of locating individuals to establish paternity, establishing and modifying orders of child support, identifying sources of income, and for other child support enforcement actions as required by the Personal Responsibility and Work Opportunity Reconciliation Act (Welfare Reform Law, Pub. L. 104-193).

(24) To a commercial contractor to provide employment and income data for use in employment verifications, unemployment claims, and W-2 services.

(25) To OPM's Employee Express system to allow employees a self-service capability to initiate personnel and payroll actions and to obtain payroll information.

(26) To the Department of Labor for processing claims for employees, DOI emergency workers, or DOI volunteers injured on the job or claiming occupational illness.

(27) To support interfaces to other systems operated by the Federal agencies for which the employee or DOI emergency worker works, or a DOI volunteer volunteers, for the purpose of avoiding duplication, increasing data integrity and streamlining government operations.

(28) To an official of another federal agency to provide information needed in the performance of official duties related to reconciling or reconstructing data files or to enable that agency to respond to an inquiry by the individual to whom the record pertains.

(29) To representatives of the National Archives and Records Administration to conduct records management inspections under the authority of 44 U.S.C. 2904 and 2906.

(30) To an expert, consultant, or contractor (including employees of the contractor) of DOI that performs services requiring access to these records on DOI's behalf to carry out the purposes of the system.

(31) To the Office of Management and Budget during the coordination and clearance process in connection with legislative affairs as mandated by OMB Circular A-19.

(32) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(33) To federal, state, territorial, local, tribal, or foreign agencies that have requested information relevant or necessary to the hiring, firing or retention of an employee or contractor, or the issuance of a security clearance, license, contract, grant or other benefit, when the disclosure is compatible with the purpose for which the records were compiled.

(34) To state and local governments and tribal organizations to provide information needed in response to court order and/or discovery purposes related to litigation, when the disclosure is compatible with the purpose for which the records were compiled.

(35) To the Department of the Treasury to recover debts owed to the United States.

(36) To the news media when the disclosure is compatible with the purpose for which the records were compiled.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Act of 1966 (31 U.S.C. 3701(a)(3)).

POLICIES AND PRACTICES FOR STORING, RETRIEVING, ACCESSING, RETAINING AND DISPOSING OF RECORDS IN THE SYSTEM:

STORAGE:

Records are maintained in manual, microfilm, microfiche, electronic, imaged and computer printout form. Original input documents are stored in standard office filing equipment and/or as imaged documents on magnetic media at all locations which prepare and provide input documents and information for data processing.

RETRIEVABILITY:

Records may be retrieved by employee, DOI emergency worker, or DOI volunteer identification such as name, Social Security Number, common identifier, birthday, organizational code, etc.

SAFEGUARDS:

Access to records covered by the system will be permitted only to authorized personnel in accordance with requirements found in the Departmental Privacy Act regulations (43 CFR 2.51). Paper or micro format records are maintained in locked metal file cabinets or in Secured rooms. Electronic records are maintained with safeguards meeting the security requirements of 43 CFR 2.51 for automated records, which conform to Office of Management and Budget and Departmental guidelines reflecting the implementation of the Federal Information Security Management Act. The electronic data are protected through user identification, passwords, database permissions, encryption and software controls. Such security measures establish different degrees of access for different types of users. An audit trail is maintained and reviewed periodically to identify unauthorized access. A Privacy Impact Assessment was completed and is updated at least annually to ensure that Privacy Act requirements and personally identifiable information safeguard requirements are met.

RETENTION AND DISPOSAL:

The records contained in this system of records have varying retention periods as described in the General Records Schedule, Sections 1, 2, and 20, (at http://www.archives.gov), issued by the Archivist of the United States, and are disposed of in accordance with the National Archives and Records Administration Regulations, 36 CFR part 1228 et seq. They are also covered by item 7551 of the Department of the Interior, Office of the Secretary's pending records schedule.

SYSTEM MANAGER(S) AND ADDRESS:

The following system manager is responsible for the payroll records contained in the Department's Federal Personnel and Payroll System (FPPS): Chief, Personnel and Payroll Systems Division, National Business Center, U.S. Department of the Interior, 7201 West Mansfield Avenue, Denver, CO 80235-2230. Personnel records contained in the system fall under the jurisdiction of the Office of Personnel Management as prescribed in 5 CFR part 253 and 5 CFR part 297.

NOTIFICATION PROCEDURES:

Inquiries regarding the existence of records should be addressed to the System Manager. The request must be in writing, signed by the requester, and meet the requirements of 43 CFR 2.60.

RECORDS ACCESS PROCEDURES:

A request for access may be addressed to the System Manager. The request must be in writing, signed by the requester, and meet the requirements of 43 CFR 2.63.

CONTESTING RECORDS PROCEDURES:

A petition for amendment should be addressed to the System Manager. The request must be in writing, signed by the requester, and meet the content requirements of 43 CFR 2.71.

RECORD SOURCE CATEGORIES:

The source data for the system comes from individuals on whom the records are maintained, official personnel records of individuals on whom the records are maintained, supervisors, timekeepers, previous employers, the Internal Revenue Service and state tax agencies, the Department of the Treasury, other federal agencies, courts, state child support agencies, employing agency accounting offices, and third-party benefit providers.

EXEMPTIONS CLAIMED FOR THE SYSTEM:

None.

[FR Doc. 2015-29532 Filed 12-4-15; 8:45 am]

BILLING CODE 7010-01-P